DEPARTMENT OF COMMERCE

National Institute of Standards and Technology

[Docket Number: 250108-0011]

XRIN: 0693-XC137

Request for Comments on AISI's Draft Document: Managing Misuse Risk for Dual-Use Foundation Models, Pursuant to Executive Order 14110 (Section 4.1(a)(ii) and Section4.1(a)(ii)(A)

AGENCY: U.S. Artificial Intelligence Safety Institute (AISI), National Institute of Standards and Technology (NIST), U.S. Department of Commerce.

ACTION: Notice; request for comments.

SUMMARY: The U.S. Artificial Intelligence Safety Institute (AISI), housed within NIST at the Department of Commerce, requests comments on an updated draft document responsive to Section 4.1(a)(ii) and Section 4.1(a)(ii)(A) of Executive Order 14110 on Safe, Secure, and Trustworthy Development and Use of Artificial Intelligence (AI) issued on October 30, 2023 (E.O. 14110). This draft document, NIST AI 800-1, Managing Misuse Risk for Dual-Use Foundation Models, can be found at https://nvlpubs.nist.gov/nistpubs/ai/NIST.AI.800-1.ipd2.pdf. This document is an update to an initial public draft and includes changes based on the previous round of public comment, as well as two new appendices that apply these guidelines to (1) chemical and biological misuse risk and (2) cyber misuse risk.

DATES: Comments containing information in response to this notice must be received on or before March 15, 2025, at 11:59 p.m. Eastern Time. Submissions received after that date may not be considered.

ADDRESSES: The draft of NIST AI 800-1, Managing Misuse Risk for Dual-Use Foundation Models is available for review and comment on the U.S. AI Safety Institute website at https://nvlpubs.nist.gov/nistpubs/ai/NIST.AI.800-1.ipd2.pdf and at www.regulations.gov under docket number NIST-2025-0001.

Comments may be submitted:

By email:

• Comments on NIST AI 800-1 may be sent electronically to NISTAI800-1@nist.gov with “NIST AI 800-1, Managing the Risk of Misuse for Dual-Use Foundation Models” in the subject line. Electronic submissions may be sent as an attachment in any of the following unlocked formats: HTML; ASCII; Word; RTF; or PDF.

Via www.regulations.gov:

• To submit electronic public comments via the Federal eRulemaking Portal.

1. Go to www.regulations.gov and enter NIST-2025-0001 in the search field,

2. Click the “Comment Now!” icon, complete the required fields, including the relevant document number and title in the subject field, and

3. Enter or attach your comments.

• Written comments may also be submitted by mail to Information Technology Laboratory, ATTN: AI E.O. Document Comments, National Institute of Standards and Technology, 100 Bureau Drive, Mail Stop 8900, Gaithersburg, MD 20899-8900.

Comments containing references, studies, research, and other empirical data that are not widely published should include copies of the referenced materials. All submissions, including attachments and other supporting materials, will become part of the public record and subject to public disclosure.

AISI will not accept comments accompanied by a request that part or all of the material be treated confidentially because of its business proprietary nature or for any other reason. Therefore, do not submit confidential business information or otherwise sensitive, protected, or personal information, such as account numbers, Social Security numbers, or names of other individuals.

All relevant comments received by the deadline will be posted at https://www.regulations.gov under docket number NIST-2025-0001 and at https://www.nist.gov/artificial-intelligence/executive-order-safe-secure-and-trustworthy-artificial-intelligence. Attachments and other supporting materials may become part of the public record and may be subject to public disclosure.

FOR FURTHER INFORMATION CONTACT: For questions about this request for comments contact: Christina Knight, U.S. Department of Commerce, 1401 Constitution Ave. NW, Washington, DC, ((240) 961-8688). Direct media inquiries to NIST's Office of Public Affairs at (301) 975-2762. Users of telecommunication devices for the deaf, or a text telephone may call the Federal Relay Service toll free at 1-800-877-8339. Accessible Format: NIST will make the request for comments available in alternate formats, such as Braille or large print, upon request by persons with disabilities.

Authority: Executive Order 14110 of Oct. 30, 2023; 15 U.S.C. 272.

Alicia Chambers,
NIST Executive Secretariat.

[FR Doc. 2025-00698 Filed 1-14-25; 8:45 am]

BILLING CODE 3510-13-P